DEPARTMENT OF HOUSING AND URBAN DEVELOPMENT

[Docket No. FR-7090-N-08]

60-Day Notice of Proposed Information Collection: 2023 American Housing Survey; OMB Control No.: 2528-0117

Correction

In notice document 2024-19706 beginning on page 71384 in the issue of Tuesday, September 3rd, 2024, make the following correction:

On page 71384, in the second column, the Docket No. in the heading is corrected to read as set forth above.

[FR Doc. C1-2024-19706 Filed 9-5-24; 8:45 am]

BILLING CODE 0099-10-D